DEPARTMENT OF HEALTH AND HUMAN SERVICES

Centers for Medicare and Medicaid Services

[Document Identifier CMS-10291]

Emergency Clearance: Public Information Collection Requirements Submitted to the Office of Management and Budget (OMB)

AGENCY: Center for Medicare and Medicaid Services, HHS.

In compliance with the requirement of section 3506(c)(2)(A) of the Paperwork Reduction Act of 1995, the Centers for Medicare and Medicaid Services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: New collection; Title of Information Collection: State Collection and Reporting of Dental Provider and Benefit Package Information; Form Number: CMS-10291 (OMB#: 0938—New); Use: Section 501 of the Children's Health Insurance Program Reauthorization Act (CHIPRA) requires the Secretary to work with States, pediatric dentists, and other dental providers to include, no later than August 4, 2009, on the Insure Kids Now (IKN) Web site, a “current and accurate list of all dentists and providers within each State that provide dental services to children enrolled in the State plan (or waiver) under Medicaid or the State child health plan (or waiver) under CHIP. Section 501 of CHIPRA also requires the Secretary to ensure the list is updated at least quarterly and includes the description of the dental services provided under Medicaid or CHIP and whether the services are provided through a State plan or waiver. The Secretary shall also post on the IKN Web site State specific information on available dental benefits. This information collection requirement will allow States to begin collecting the information on the dental providers and dental benefits in accordance with CHIPRA. Frequency: Yearly and Quarterly; Affected Public: State, Tribal and Local governments; Number of Respondents: 51; Total Annual Responses: 255; Total Annual Hours: 9,180. (For policy questions regarding this collection contact Nancy Goetschius at 410-786-0707. For all other issues call 410-786-1326.)

CMS is requesting OMB review and approval of this collection by June 26, 2009, with a 180-day approval period. Written comments and recommendations will be considered from the public if received by the individuals designated below by the noted deadline below.

To obtain copies of the supporting statement and any related forms for the proposed paperwork collections referenced above, access CMS's Web site address at http://www.cms.hhs.gov/PaperworkReductionActof1995 or E-mail your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by July 6, 2009:

1. Electronically. You may submit your comments electronically to http://www.regulations.gov. Follow the instructions for “Comment or Submission” or “More Search Options” to find the information collection document(s) accepting comments.

2. By regular mail. You may mail written comments to the following address:

CMS, Office of Strategic Operations and Regulatory Affairs, Division of Regulations Development, Attention: Document Identifier/OMB Control Number (CMS-10285), Room C4-26-05, 7500 Security Boulevard, Baltimore, Maryland 21244-1850. and,

OMB Office of Information and Regulatory Affairs, Attention: CMS Desk Officer, New Executive Office Building, Room 10235, Washington, DC 20503. Fax Number: (202) 395-6974.

Dated: June 16, 2009.
Michelle Shortt,
Director, Regulations Development Group, Office of Strategic Operations and Regulatory Affairs.

[FR Doc. E9-14736 Filed 6-22-09; 8:45 am]

BILLING CODE 4120-01-P